DEPARTMENT OF TRANSPORTATION

Federal Motor Carrier Safety Administration

[Docket No. FMCSA-2015-0436]

Agency Information Collection Activities; Extension of a Currently Approved Information Collection Request: Financial Responsibility for Motor Carriers of Passengers and Motor Carriers of Property

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. The FMCSA and the public use the information (which is currently being collected) to verify that a motor carrier of property or passengers has obtained, and has in effect, the required minimum levels of financial responsibility. Statute mandates that motor carriers maintain proof of the required financial responsibility at their principal places of business, available upon request of an FMCSA safety investigator during compliance reviews. Insurance Endorsements and Surety Bonds are considered public information and must be produced by a motor carrier of passengers for review upon reasonable request by a member of the public.

DATES: Please send your comments on or before July 21, 2016. OMB must receive your comments by this date in order to act quickly on the ICR.

ADDRESSES: All comments should reference Federal Docket Management System (FDMS) Docket Number FMCSA-2015-0436. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Ms. Tura Gatling, Registration, Licensing, and Insurance Division, Office of Registration and Safety Information, Department of Transportation, Federal Motor Carrier Safety Administration, West Building 6th Floor, 1200 New Jersey Avenue SE., Washington, DC 20590. Telephone: 202-385-2415; email: tura.gatling@dot.gov.

SUPPLEMENTARY INFORMATION:

Title: Financial Responsibility for Motor Carriers of Passengers and Motor Carriers of Property.

OMB Control Number: 2126-0008.

Type of Request: Extension of a currently-approved information collection.

Respondents: Insurance and surety companies of motor carriers of property (Forms MCS-90 and MCS-82) and motor carriers of passengers (Forms MCS-90B and MCS-82B).

Estimated Number of Respondents: 8,004 [896 insurers for IC1 + 896 insurers for IC2 + 231 insurers for IC3 + 231 insurers for IC4 + 5,750 carriers for IC5 (Canada: 111 passenger carriers + 2,716 property carriers) + (Mexico & NNA: 2 passenger carriers + 2,921 property carriers)].

Estimated Time per Response: The FMCSA estimates it takes two minutes to complete the Endorsement for Motor Carrier Policies of Insurances for Public Liability or the Motor Carrier Public Liability Surety Bond; and one minute to place either document on board the vehicle [49 CFR 387.7(f)(property); 387.31(f)(passengers)]. These endorsements and surety bonds are maintained at the motor carrier's principal place of business [49 CFR 387.7(d); 49 CFR 387.31(d)].

Expiration Date: June 30, 2016.

Frequency of Response: Upon creation, change or replacement of an insurance policy or surety bond.

Estimated Total Annual Burden: 4,777 hours [4,065 annual burden hours for ICs 1-4 + 712 annual burden hours for IC-5 document replacement = 4,777].

Background: The Secretary of Transportation is responsible for implementing regulations which establish minimal levels of financial responsibility for: (1) For-hire motor carriers of property to cover public liability, property damage and environmental restoration, and (2) for-hire motor carriers of passengers to cover public liability and property damage. The Endorsement for Motor Carrier Policies of Insurance for Public Liability (Forms MCS-90/90B) and the Motor Carrier Public Liability Surety Bond (Forms MCS-82/82B) contain the minimum amount of information necessary to document that a motor carrier of property or passengers has obtained, and has in effect, the minimum levels of financial responsibility as set forth in applicable regulations (motor carriers of property—49 CFR 387.9; and motor carriers of passengers—49 CFR 387.33). FMCSA and the public can verify that a motor carrier of property or passengers has obtained, and has in effect, the required minimum levels of financial responsibility, by use of the information enclosed within these documents.

On February 25, 2016, FMCSA published a notice in the Federal Register requesting public comments on the “Financial Responsibility for Motor Carriers of Passengers and Motor Carriers of Property” Information Collection Request, OMB Control Number 2126-0008 (81 FR 9582). Two comments were received in response to this notice. FMCSA contacted one of the commenters and determined that the question was about a company-specific FMCSA registration issue unrelated to the notice, which has already been resolved. FMCSA believes the other comment can be interpreted as an advertisement for the commenter's company, and not a question about the notice.

Public Comments Invited: You are asked to comment on any aspect of this information collection, including: (1) whether the proposed collection is necessary for the performance of FMCSA's functions; (2) the accuracy of the estimated burden; (3) ways for the FMCSA to enhance the quality, usefulness, and clarity of the collected information; and (4) ways that the burden could be minimized without reducing the quality of the collected information.

Issued under the authority delegated in 49 CFR 1.87 on: June 15, 2016.
G. Kelly Regal,
Associate Administrator for Office of Research and Information Technology.

[FR Doc. 2016-14743 Filed 6-20-16; 8:45 am]

BILLING CODE 4910-EX-P